DEPARTMENT OF AGRICULTURE

Agricultural Marketing Service

[Doc No. AMS-FGIS-20-0066]

United States Standards for Lentils

AGENCY: Agricultural Marketing Service, USDA.

ACTION: Notice and request for comments.

SUMMARY: The United States Department of Agriculture's (USDA) Agricultural Marketing Service (AMS) is proposing a revision to the method of interpretation for the determining the special grade “Green,” in the Pea and Lentil Inspection Handbook, as it pertains to the class “Lentils,” in the U.S. Standards for Lentils under the United States Agricultural Marketing Act (AMA). Stakeholders in the lentil processing/handling industry requested AMS to amend the definition of the special grade “Green” to allow for the inclusion of mottled lentils. To ensure that the Lentil standards remain relevant, AMS invites interested parties to comment on whether revising the inspection instructions facilitate the marketing of Lentils. This action will revise or amend the Grade and Grade Requirements for Lentils in the U.S. Standard for Lentils.

DATES: We will consider comments we receive by October 29, 2020.

ADDRESSES: Submit comments or notice of intent to submit comments by any of the following methods:

To submit Comments: Go to Regulations.gov (http://www.regulations.gov). Instructions for submitting and reading comments are detailed on the site. Interested persons are invited to submit written comments concerning this notice. All comments must be submitted through the Federal e-rulemaking portal at http://www.regulations.gov and should reference the document number and the date and page number of this issue of the Federal Register. All comments submitted in response to this notice will be included in the record and will be made available to the public. Please be advised that the identity of the individuals or entities submitting comments will be made public on the internet at the address provided above.

FOR FURTHER INFORMATION CONTACT: Loren Almond, USDA AMS; Telephone: (816) 891-0422; Email: Loren.L.Almond@ams.usda.gov.

SUPPLEMENTARY INFORMATION: Under the authority of the AMA (7 U.S.C. 1621-1627), as amended, AMS establishes and maintains a variety of quality and grade standards for agricultural commodities that serve as a fundamental starting point to define commodity quality in the domestic and global marketplace. Standards developed under the AMA include those for rice, whole dry peas, split peas, feed peas, lentils, and beans. The U.S. standards for whole dry peas, split peas, feed peas, lentils and beans no longer appear in the Code of Federal Regulations, but are now maintained by USDA-AMS-Federal Grain Inspection Service. The U.S. standards for lentils are voluntary and widely used in private contracts, government procurement, marketing communication, and for some commodities, consumer information. The lentil standards were last revised in 2017 (82 FR 31550).

The lentil standards facilitate lentil marketing and define U.S. lentil quality in the domestic and global marketplace. The standards define commonly used industry terms; contain basic principles governing the application of standards such as the type of sample used for a particular quality analysis; the basis of determination; and specify grades and grade requirements. Official procedures for determining grading factors are provided in the Pea and Lentil Inspection Handbook. Together, the grading standards and testing procedures allow buyers and sellers to communicate quality requirements, compare lentil quality using equivalent forms of measurement, and assist in price discovery.

AMS engages in outreach with stakeholders to ensure commodity standards maintain relevance to the modern market. Stakeholders, including the U.S. Dry Pea and Lentil Council (USDPLC), requested AMS to revise the lentil criteria for the special grade “Green” in the class Lentils. Currently, Green Lentils are clear seeded (Non-Mottled) lentils possessing a natural, uniformly green color. This criteria for “Green” Lentils is determined on the sample as a whole, after the removal of dockage, but before the removal of defects and must be equal to or better than the depiction on the Interpretive Line Print (ILP) to quality for the special grade “Green Lentils”. AMS-FGIS proposes to revise the lentil inspection criteria in the U.S. Standards for Lentils and the Pea and Lentil Inspection Handbook by amending the definition and criteria requirements for “Green” in lentils.

Special Grade “Green” Criteria in Lentils

When special grade “Green” was added to the lentil standard in 2017, stakeholders did not intend the interpretation of the definition to exclude all mottled lentils. Representatives of lentil industry stakeholders contacted AMS-FGIS to discuss ongoing issues with Lentils, which are predominately grown in Montana and North Dakota. Stakeholders stated in 2019 that most shipments of lentils did not achieve the special grade “Green” as the current definition and interpretation make it difficult to meet the special grade criteria. During meetings and discussions, lentil stakeholders communicated the need to revise the standard by changing definition of special grade “Green” and changing the inspection criteria in the Pea and Lentil Inspection Handbook to include a percentage of allowable mottled lentils.

Stakeholders recommended the definition of “Green” be revised in the lentil standard to read “Clear seeded (green) lentils possessing a natural, uniformly green color”. Further, stakeholders recommended the instruction in the Pea and Lentil Inspection Handbook be amended to read: “The portion size of, approximately 60 grams for small seeded lentils and 125 grams for large seeded lentils, must contain less than 0.5 percent mottled lentils before the removal of defects, and must be equal to or better than depicted on the interpretive line print after the removal of dockage.” AMS regards this action as noncontroversial and anticipates no adverse public comment.

AMS grading and inspection services, provided through a network of federal, state, and private laboratories, conduct tests to determine the quality and condition of Lentils. These tests are conducted in accordance with applicable standards using approved methodologies and can be applied at any point in the marketing chain. Furthermore, the tests yield rapid, reliable, and consistent results. The U.S. Standards for Lentils and the affiliated grading and testing services offered by AMS verify that a seller's Lentils meet specified requirements and ensure that customers receive the quality purchased.

In order for U.S. standards and grading procedures for lentils to remain relevant, AMS is issuing this request for information to invite interested parties to submit comments on the proposal to amend the definition and inspection instruction of special grade “Green” in the class Lentils.

Proposed AMS Action

Based on input from stakeholder organizations in the lentil industry, AMS proposes to amend U.S. Standards for Lentils by revising the definition of the special grade “Green” in Section 609 to read:

609 Special grades and requirements.

* * *

(c) Green lentils. Clear seeded (green) lentils possessing a natural, uniformly green color.

* * * * *

AMS will amend the Pea and Lentil Inspection Handbook by revising the inspection instruction for determining the special grade “Green”, as stated above.

AMS will solicit comments for 30 days. All comments received within the comment period will be made part of the public record maintained by AMS, will be available to the public for review, and will be considered by AMS before a final action is taken on this proposal.

(Authority: 7 U.S.C. 1621-1627)

Bruce Summers,
Administrator, Agricultural Marketing Service.

[FR Doc. 2020-21435 Filed 9-28-20; 8:45 am]

BILLING CODE P